DEPARTMENT OF THE INTERIOR

National Park Service

[NPS-WASO-NAGPRA-22483; PPWOCRADN0-PCU00RP14.R50000]

Notice of Intent To Repatriate Cultural Items: Fowler Museum at the University of California Los Angeles, Los Angeles, CA

AGENCY: National Park Service, Interior.

ACTION: Notice.

SUMMARY: The Fowler Museum at the University of California Los Angeles (UCLA), in consultation with the appropriate Indian tribes or Native Hawaiian organizations, has determined that the cultural items listed in this notice meet the definition of unassociated funerary objects. Lineal descendants or representatives of any Indian tribe or Native Hawaiian organization not identified in this notice that wish to claim these cultural items should submit a written request to the Fowler Museum at UCLA. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Fowler Museum at UCLA at the address in this notice by January 9, 2017.

ADDRESSES: Wendy G. Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3005, of the intent to repatriate cultural items under the control of the Fowler Museum at UCLA that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1978, 132 cultural items were removed from Lindero Canyon (CA-VEN-606) in Ventura County, CA. Collections from the site derive from a survey and excavation led by Dr. William Clewlow, Jr., during the North Ranch Inland Chumash research project. A second investigation was conducted in 1979 under the direction of Holly Love and Rheta Resnick. Excavations took place on land privately owned by the Prudential Insurance Company. The collections were curated at UCLA in 1979. The site has been dated to the Late Period, A.D. 1300-1650. During excavations a cemetery was discovered and 13 burials were uncovered and left in-situ, but burial objects were removed for study. Funerary objects were identified as being removed from six burials (MM, HH, LL, EE, KK, and 2). The unassociated funerary objects are 126 objects and 6 bags of artifacts, including 12 pieces and 4 bags of shell fragments, 2 shell beads, 62 stone flakes, 1 cobble, 3 quartz crystals, 41 pieces and 2 bags of unmodified animal bone, 4 ochre fragments, and 1 charcoal lump. Since the represented burials were left in situ the curated burial items are unassociated funerary objects.

The site detailed in this notice has been identified through consultation to be within the traditional territory of the Chumash. These locations are consistent with ethnographic and historic documentation.

The Chumash territory, anthropologically defined first on the basis of linguistic similarities, and subsequently on broadly shared material and cultural traits, reaches from San Luis Obispo to Malibu on the coast, inland to the western edge of the San Joaquin Valley, to the edge of the San Fernando Valley, and includes the four Northern Channel Islands. The site listed in this notice is located in Ventura County and falls within the geographical area identified as Chumash. Some consultants state that these areas were the responsibility of regional leaders, who were themselves organized into a pan-regional association of both political power and ceremonial knowledge. Further, these indigenous areas are identified by some consultants to be relational with clans, or associations of traditional practitioners of specific kinds of indigenous medicinal and ceremonial practices. Some consultants identified these clans as existing in the pre-contact period, and identified some as also existing in the present day. Other consultants do not recognize present-day geographical divisions to be related to clans of traditional practitioners. Ethnographic evidence suggests that the social and political organizations of the pre-contact Channel Islands were primarily at the village level, with a hereditary chief, in addition to many other specialists who wielded power.

The unassociated funerary objects are consistent with funerary objects placed by groups ancestral to the present-day Chumash people. The material culture of those earlier groups living in the geographical areas mentioned above is characterized by archeologists as having passed through developmental stages over the past 10,000 years. Many local archeologists assert that the changes in the material culture reflect evolving ecological adaptations and related changes in social organization of the same populations, and do not represent population displacements or movements. The same range of artifact types and materials were used from the early pre-contact period until historic times. Native consultants explicitly state that population mixing, which did occur on a small scale, would not alter the continuity of the shared group identities of people associated with specific locales. Based on this evidence, continuity of occupation by the Chumash people can be traced for the site listed in this notice.

Determinations Made by the Fowler Museum at UCLA

Officials of the Fowler Museum at UCLA have determined that:

• Pursuant to 25 U.S.C. 3001(3)(B), the 132 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Santa Ynez Band of Chumash Mission Indians of the Santa Ynez Reservation, California.

Additional Requestors and Disposition

Lineal descendants or representatives of any Indian tribe or Native Hawaiian organization not identified in this notice that wish to claim these cultural items should submit a written request with information in support of the claim to Wendy G. Teeter, Ph.D., Fowler Museum at UCLA, Box 951549, Los Angeles, CA 90095-1549, telephone (310) 825-1864, email wteeter@arts.ucla.edu, by January 9, 2017. After that date, if no additional claimants have come forward, transfer of control of the unassociated funerary objects to Santa Ynez Band of Chumash Mission Indians of the Santa Ynez Reservation, California may proceed.

The Fowler Museum at UCLA is responsible for notifying the Santa Ynez Band of Chumash Mission Indians of the Santa Ynez Reservation, California that this notice has been published.

Dated: November 28, 2016.
Melanie O'Brien,
Manager, National NAGPRA Program.

[FR Doc. 2016-29535 Filed 12-8-16; 8:45 am]

BILLING CODE 4312-52-P